DEPARTMENT OF DEFENSE

Department of the Air Force

Privacy Act of 1974; System of Records

AGENCY: Department of the Air Force, DoD.

ACTION: Notice to delete a records system.

SUMMARY: The Department of the Air Force proposes to delete a system of records notice from its inventory of records systems subject to the Privacy Act of 1974 (5 U.S.C. 552a), as amended. Records formerly maintained under F090 AF IG A, Inspector General Records - Freedom of Information Act are now being maintained under F090 AF IG B, Inspector General Records published on June 8, 1999, at 65 FR 30491.

DATES: The action will be effective on March 15, 2000, unless comments are received that would result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force's record system notices for records systems subject to the Privacy Act of 1974 (5 U.S.C. 552a), as amended, have been published in the Federal Register and are available from the address above.

The proposed amendments are not within the purview of subsection (r) of the Privacy Act (5 U.S.C. 552a), as amended, which would require the submission of a new or altered system report for each system. The specific changes to the record system being amended are set forth below followed by the notice as amended, published in its entirety.

Dated: February 8, 2000.
L. M. Bynum,
Alternate OSD Federal Register Liaison Officer, Department of Defense.

F090 AF IG A

SYSTEM NAME:

Inspector General Records—Freedom of Information Act (June 11, 1997, 62 FR 31793).

Reason: Records have been consolidated into F090 AF IG B, Inspector General Records published on June 8, 1999, at 65 FR 30491.

[FR Doc. 00-3354 Filed 2-11-00; 8:45 am]

BILLING CODE 5001-10-F